DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: The Evaluation of Networking Suicide Prevention Hotlines Follow-Up Assessment—NEW

The Substance Abuse and Mental Health Services Administration's (SAMHSA), Center for Mental Health Services has funded a National Suicide Prevention Lifeline Network, consisting of a single toll-free telephone number that routes calls from anywhere in the United States to a network of local crisis centers. In turn, the local centers link callers to local emergency, mental health, and social service resources.

With input from multiple experts in the field of suicide prevention, the project created a telephone interview survey to collect data on follow-up assessments of consenting individuals calling the Lifeline network. The “Evaluation of Networking Suicide Prevention Hotlines Follow-Up Assessment” will provide an empirical evaluation of crisis hotline services, necessary to optimize public health efforts to prevent suicidal behavior.

Seven hundred and twenty callers will be recruited from seven of the approximately 100 crisis hotline centers that participate in the Lifeline network. Trained crisis workers will conduct the follow-up telephone assessment (“Crisis Hotline Telephone Follow up Assessment”) within one month of the initial call. Assessments will be conducted only one time for each client. Strict measures to ensure confidentiality will be followed.

The resulting data will measure (1) suicide risk status at the time of and since the call, (2) depressive symptoms at follow-up, (3) service utilization since the call, (4) barriers to service access, and (5) the clients perception of the efficacy of the hotline intervention. The estimated annual response burden to collect this information is as follows:

Instrument | Number of respondents | Responses/ respondent | Burden/ responses (hours) | Annual burden (hours)
Initial request script | 720 | 1 | .08 | 57.6
Followup consent script | 720 | 1 | .17 | 122.4
Crisis Hotline Telephone Follow-up Assessment | 720 | 1 | .58 | 417.6
Total | 720 |  |  | 598

Written comments and recommendations concerning the proposed information collection should be sent by December 28, 2005 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: November 21, 2005.
Anna Marsh, Ph.D.,
Director, Office of Program Services.

[FR Doc. 05-23367 Filed 11-25-05; 8:45 am]

BILLING CODE 4162-20-M